DEPARTMENT OF INTERIOR

Bureau of Land Management

[CA-660-1430-ER-CACA-44491]

Proposed Environmental Impact Statement/Environmental Impact Report (EIS/EIR) for the Imperial Irrigation District's Proposed New California Desert Southwest Transmission Line Project, California

AGENCY: Bureau of Land Management (BLM) and the Imperial Irrigation District (IID).

ACTION: Notice of intent to prepare a joint EIS/EIR addressing a proposed 230 or 500kV transmission line project and possible California Desert Conservation Area (CDCA) Plan Amendment.

SUMMARY: In compliance with regulations at 40 CFR 1501.7 and 43 CFR 1610.2, notice is hereby given that the BLM, together with the IID, propose to prepare a joint EIS/EIR for the IID's proposed 230 or 500 kilovolt (kV) “California Desert Southwest” Transmission Line Project. The BLM is the lead Federal agency for the preparation of this EIS/EIR in compliance with the requirements of the National Environmental Policy Act (NEPA), the Council on Environmental Quality (CEQ) regulations for implementing NEPA (40 Code of Federal Regulations [CFR] 1500-1508), and the Department of the Interior's manual guidance on NEPA; and the IID is the lead State of California agency for the preparation of this EIS/EIR in compliance with the requirements of the California Environmental Quality Act (CEQA) (Public Resources Code Section 21000 et seq), and implementing guidelines (California Code of Regulations [CCR] Title 14, Section 15000 et seq), and IID's rules and regulations to implement CEQA. This notice initiates the public participation process for planning, initiates public scoping for the EIS and also serves as an invitation for other cooperating agencies. Potential cooperating agencies include the U.S. Fish and Wildlife Service, Western Area Power Administration, the Department of Defense, the State Historic Preservation Officer, and the California Department of Fish and Game.

DATES: For scoping meetings and comments: Two public scoping meetings will be held during 2002 on the following dates:

1. August 14, from 7-9 p.m., at the Blythe City Council Multipurpose Room, Blythe, CA.

2. August 15, from 7-9 p.m., at the IID Board Room, La Quinta, CA.

Written comments must be postmarked no later than 30 days from the date of this notice in order to be included in the draft EIS/EIR. Please submit any comments to the address listed below.

ADDRESSES: Written comments should be addressed to Mr. James G. Kenna—Field Manager, Bureau of Land Management, Palm Springs-South Coast Field Office, 690 West Garnet Ave, PO Box 581260, North Palm Springs, California 92258-1260.

The meeting locations are:

1. Blythe City Council Multipurpose Room, 235 N. Broadway, Blythe, CA.

2. Imperial Irrigation District, 81-600 Ave. 58, La Quinta, CA.

FOR FURTHER INFORMATION CONTACT: John Kalish, Bureau of Land Management, Palm Springs-South Coast Field Office, 690 West Garnet Ave, PO Box 581260, North Palm Springs, California 92258-1260, (760) 251-4849.

SUPPLEMENTARY INFORMATION: The Imperial Irrigation District (IID) is a community owned utility providing power to more than 90,000 customers in Imperial County and parts of Riverside and San Diego Counties, all in California. The IID is experiencing an increase in electrical demand at an estimated rate of 20 to 30 megawatts annually. In an effort to meet electrical power demand, the IID is proposing to construct a 230 or 500 kilovolt (kV) electrical transmission line located parallel and adjacent to Interstate Highway 10 between North Palm Springs and Blythe, California, a distance of approximately 118 miles. The proposed Project will operate at either 230-kV or 500-kV and will provide increased transmission line capabilities from the existing Devers substation at North Palm Springs, to the proposed Hobsonway substation located west of Blythe.

The proposed transmission line is located within the designated Utility Corridor “H” under the California Desert Conservation Area (CDCA) Plan of 1980, as amended. This utility Corridor directly parallels Interstate Highway 10. An amendment to the CDCA Plan would be required if an alternative to this proposed project, analyzed in the EIS/EIR, is ultimately chosen that is not within one of the 16 utility corridors designated in the CDCA Plan. The CDCA Plan states that new utility needs which do not conform to the adopted corridor system will be processed by means of a Plan Amendment in conjunction with necessary permit hearings required by other agencies. Under the CDCA Plan, the BLM may either authorize installation of a 161kV or larger transmission line within existing utility corridors, deny the proposed project or amend the CDCA Plan to accommodate an alternative alignment that is outside of existing designated utility corridors. Any proposed amendments to the CDCA Plan would be analyzed in this EIS/EIR.

BLM has identified a preliminary list of issues which will need to be addressed in this analysis. Members of the public are invited to identify additional issues and concerns to be addressed. The preliminary list of issues includes potential impacts to the habitat of species listed under the Endangered Species Act (ESA) of 1973, as amended, including the desert tortoise, Coachella Valley fringed toed lizard, Coachella Valley milkvetch, as well as to several BLM administered areas including the Coachella Valley Preserve, Alligator Rock Area of Critical Environmental Concern (ACEC), Chuckwalla Valley Dune Thicket ACEC and Camp Young of the WWII Desert Training Center, California-Arizona Maneuver Area.

Planning criteria (43 CFR 1610.4-2) are parameters, generally based on applicable law, which guide development of a plan amendment to ensure the planning process is tailored to the issues and unnecessary data collection is avoided. The BLM has put together the following preliminary list of planning criteria and also invites the public to provide written comments on these criteria.

1. The Proposed Northern and Eastern Colorado Desert (NECO) Plan/Final EIS and the draft California Desert Conservation Area (CDCA) Plan Amendment for the Coachella Valley/EIS shall be considered to ensure that there are no inconsistencies between either of these plans and the IID proposal. This is critical as these plans are being prepared to address the recovery of Federally listed species under the ESA.

2. The IID proposal itself will be subject to Section 7 consultation in accordance with the ESA to address potential impacts to listed species, including cumulative impacts.

The planning process and environmental review analysis for a CDCA Plan Amendment shall be conducted from an interdisciplinary perspective to ensure all issues are adequately addressed. At a minimum, input shall be sought from the following disciplines: biological resources, cultural resources, visual resource management, recreation, wilderness and lands and realty.

Interested members of the public are now invited to participate in a NEPA scoping process, and are requested to help identify new issues or concerns and alternatives to be considered related to this proposed Project. Written comments must be submitted no later than 30 days from the date of this notice to ensure that your comments are included in the draft EIS/EIR. When available, the public will be provided a 60-day public review period on the draft EIS/EIR and a 30-day protest period on the final EIS/EIR. These documents will be made available on the Internet at BLM's Web site: www.ca.blm.gov and at local public libraries in the cities of Blythe, Niland, La Quinta and Palm Springs, California. Contact the BLM if you would like to be included in the mailing list to receive copies of all public notices relevant to this project.

James G. Kenna,
Field Manager.

[FR Doc. 02-20418 Filed 8-12-02; 8:45 am]

BILLING CODE 4310-40-P